DEPARTMENT OF EDUCATION

Proposed Collection; Comment Request

AGENCY: Department of Education.

SUMMARY: The Secretary of Education requests comments on the Free Application for Federal Student Aid (FAFSA) that the Secretary proposes to use for the 2007-2008 award year. The FAFSA is completed by students and their families and the information submitted on the form is used to determine the students' eligibility and financial need for financial aid under the student financial assistance programs authorized under Title IV of the Higher Education Act of 1965, as amended (Title IV, HEA Programs). The Secretary also requests comments on changes under consideration for the 2007-2008 award year FAFSA.

DATES: Interested persons are invited to submit comments on or before August 7, 2006.

ADDRESSES: Comments may be submitted electronically through e-mail to: FAFSAComments@ed.gov.

Written comments and requests for copies of the proposed information collection requests should be addressed to U.S. Department of Education, 400 Maryland Avenue, SW., Potomac Center, 9th Floor, Washington, DC 20202-4700.

In addition, interested persons can access this document on the Internet:

(1) Go to IFAP at http://ifap.ed.gov

(2) Scroll down to “Current Publications”

(3) Click on “FAFSAs and Renewal FAFSAs”

(4) Click on “By 2007-2008 Award Year”

(5) Click on “Draft FAFSA Form/Instructions”

(6) Scroll down and select “2007-2008 Draft Form in PDF Format”

Please note that the free Adobe Acrobat Reader software, version 4.0 or greater, is necessary to view this file. This software can be downloaded for free from Adobe's Web site: http://www.adobe.com.

SUPPLEMENTARY INFORMATION: Section 483 of the Higher Education Act of 1965, as amended (HEA), requires the Secretary, “in cooperation with agencies and organizations involved in providing student financial assistance,” to “produce, distribute and process free of charge a common financial reporting form to be used to determine the need and eligibility of a student for financial assistance * * *” under the Title IV, HEA Programs. This form is the FAFSA. In addition, Section 483 authorizes the Secretary to include non-financial data items that assist States in awarding State student financial assistance. On February 8, 2006, President Bush signed the Higher Education Reconciliation Act of 2005 (HERA), Public Law 109-171. The HERA made changes to the HEA that affect student eligibility and need analysis. The HERA changes impact the FAFSA in the following ways: (1) New questions are added for a student (and spouse) or a student and parents asking whether they received benefits from any of five means-tested Federal benefit programs in 2006. Receipt of means-tested Federal benefits during the preceding calendar year (2006 for the 2007-2008 award year) is an alternative to the current question about whether the student or parent filed or was required to file an IRS 1040 Form as one of the criteria used to determine who qualifies for an automatic zero EFC or a simplified needs test. (2) A new dependency question is added to ensure that a member of the U.S. Armed Forces on active duty for other than training purposes is considered an independent student. (3) The question regarding a student's convictions for drug-related offenses has been modified. A student is ineligible for Title IV, HEA financial assistance only if the conviction for a Federal or State offense involving the possession or sale of a controlled substance is for conduct that occurred during a period of enrollment for which the student was receiving Title IV, HEA financial assistance. The ineligibility period is provided in the HEA. (4) New instructions have been added to clarify that Coverdell savings accounts, 529 college savings plans, and the refund value of 529 or State prepaid tuition plans should be reported as an asset of the account owner (unless the owner is a dependent student). (5) In addition, the FAFSA instructs applicants to exclude the value of a small business that the family owns and controls and that has 100 or fewer full-time or full-time equivalent employees. The following data elements have been deleted from the FAFSA because of space constraints on the paper form: Questions 27 and 28 regarding the student's interest in student loans or work-study and questions 94-97 representing a fifth and sixth college choice. Question numbers refer to the 2006-2007 FAFSA. The Secretary requests comments on these proposed changes to wording, as well as suggestions for ways to further simplify the application for students, parents, and schools. In particular, the Secretary is interested in comments regarding the best manner in which to construct a simplified form for applicants who qualify for an automatic zero or simplified needs test EFC calculation, including applicants who now qualify based on receipt of benefits from a Federal means-tested benefit program. The Secretary is publishing this request for comment under the provisions of the Paperwork Reduction Act of 1995, 44 U.S.C. 3501 et seq. Under that Act, ED must obtain the review and approval of the Office of Management and Budget (OMB) before it may use a form to collect information. However, under procedure for obtaining approval from OMB, ED must first obtain public comment of the proposed form, and to obtain that comment, ED must publish this notice in the Federal Register. In addition to comments requested above, to accommodate the requirements of the Paperwork Reduction Act, the Secretary is interested in receiving comments with regard to the following matters: (1) Is this collection necessary to the proper functions of the Department, (2) will this information be processed and used in a timely manner, (3) is the estimate of burden accurate, (4) how might the Department enhance the quality, utility, and clarity of the information to be collected, and (5) how might the Department minimize the burden of this collection on the respondents, including through the use of information technology.

Dated: May 31, 2006.
Angela C. Arrington,
IC Clearance Official, Regulatory Information Management Services, Office of Management.

Federal Student Aid

Type of Review: Revision.

Title: Free Application for Federal Student Aid (FAFSA).

Frequency: Annually.

Affected Public: Individuals and families.

Annual Reporting and Recordkeeping Hour Burden:

Responses: 15,400,321.

Burden Hours: 7,779,593.

Abstract: The FAFSA collects identifying and financial information about a student applying for Title IV, HEA program funds. This information is used to calculate the student's expected family contribution, which is used to determine a student's financial need. The information is also used for determining a student's eligibility for grants and loans under the Title IV, HEA Programs. It is further used for determining a student's eligibility for State and institutional financial aid programs.

Requests for copies of the proposed information collection request may be accessed from http://edicsweb.ed.gov, by selecting the “Browse Pending Collections” link and by clicking on link number 03129. When you access the information collection, click on “Download attachments” to view. Written requests for information should be addressed to U.S. Department of Education, 400 Maryland Avenue, SW., Potomac Center, 9th Floor, Washington, DC 20202-4700. Requests may also be e-mailed to ICDocketMgr@ed.gov or faxed to: (202) 245-6623. Please specify the complete title of the information collection when making your request. Comments regarding burden and/or the collection activity requirements should be directed to ICDocketMgr@ed.gov. Individuals who use a telecommunications device for the deaf (TDD) may call the Federal Relay Service (FRS) at 1-800-877-8339 between 8 a.m. and 8 p.m., Eastern time, Monday through Friday.

[FR Doc. E6-8707 Filed 6-5-06; 8:45 am]

BILLING CODE 4000-01-P